DEPARTMENT OF COMMERCE

Foreign-Trade Zones Board

[B-9-2013]

Foreign-Trade Zone 41—Milwaukee, Wisconsin; Authorization of Production Activity; CNH America, LLC; Subzone 41I (Tractors and Tractor/Combine Components); Racine, Wisconsin

On January 18, 2013, the Port of Milwaukee, grantee of FTZ 41, submitted a notification of proposed production activity to the Foreign-Trade Zones (FTZ) Board on behalf of CNH America, LLC, within Subzone 41I, at its facilities in Racine, Wisconsin.

The notification was processed in accordance with the regulations of the FTZ Board (15 CFR part 400), including notice in the Federal Register inviting public comment (78 FR 7394, 02-01-2013). The FTZ Board has determined that no further review of the activity is warranted at this time. The production activity described in the notification is authorized, subject to the FTZ Act and the Board's regulations, including Section 400.14.

Dated: May 17, 2013.
Andrew McGilvray,
Executive Secretary.

[FR Doc. 2013-12358 Filed 5-22-13; 8:45 am]

BILLING CODE 3510-DS-P